DEPARTMENT OF HEALTH AND HUMAN SERVICES

Centers for Disease Control and Prevention

[Program Announcement 02186]

Oral Vaccine Institute; Notice of Award of Funds

A. Purpose

The Centers for Disease Control and Prevention (CDC) announces the award of fiscal year (FY) 2002 funds for a grant for Oral Vaccine Institute (OVI) research on liposome-based delivery systems for oral or nasal vaccination. This program addresses the “Healthy People 2010” focus areas of Immunization and Infectious Diseases; Maternal, Infant and Child Health; Medical Product Safety; and Sexually Transmitted Diseases.

The purpose of the program is to develop a platform of liposome constructs containing vaccine antigens that can immunize through the oral or nasal routes, rather than via parenteral injection with conventional needle and syringes.

B. Eligible Applicant

This grant is to be awarded to the Oral Vaccine Institute, which is affiliated with Oral Vaccine Technologies, Inc. (OVT), a for-profit company based in Las Vegas, Nevada and incorporated in Nevada. OVT owns several patents currently issued by the U.S. Patent office. They have assembled a team of scientists with considerable expertise in the areas of liposome development, vaccine development and mucosal immunity. OVT has executed an agreement allowing the Oral Vaccine Institute the right to use its intellectual property that is set forth and described in its Executive Summary for certain research purposes.

BioMedical Research Models, Inc. (BRM) is under contract to provide certain laboratory facility capabilities and personnel to accomplish the mission of the Oral Vaccine Institute. The facility is fully prepared to administer and assist the proposed animal-based studies.

Acting in concert with these three organizations (OVI, OVT and BRM), and their scientific staffs and consultants, the Institute will develop platform technologies that could significantly impact the response to a bioterrorism attack.

Justification: This grant is awarded sole source by virtue of Congressional earmark evidenced in the following records of Congress: Senate-House Conference Committee, Calendar No. 193, 107th Congress Report-Senate; assessable in pages 88-89 of 229 of pdf document: http://frwebgate.access.gpo.gov/cgi-bin/grtdoc.cgi?dbname=107_cong_reports&docid=f:hr342.107.pdf

Note: Title 2 United States Code section 1611 states that an organization described in section 501(c)(4) of the Internal Revenue Code that engages in lobbying activities is not eligible to receive Federal funds constituting an award, grant or loan.

C. Funds

Approximately $1.2 million is being awarded in FY 2002. It is expected that the award will begin on or before September 15, 2002, and will be made for a 12 month budget period within a project period of one year. The funding estimate may change.

D. Where To Obtain Additional Information

This and other CDC announcements can be found on the CDC home page Internet address— http://www.cdc.gov. Click on “Funding” then “Grants and Cooperative Agreements.”

For business management assistance contact: Peaches Brown, Grants Management Specialist, Grants Management Branch, Procurement and Grants Office, Centers for Disease Control and Prevention, 2920 Brandywine Road, Room 3000, Atlanta, GA 30341-4146, Telephone: 770-488-2738, e-mail address: prb0@cdc.gov.

For program technical assistance, contact: Dr. Bruce Weniger, Vaccine Safety and Development Activity, National Immunization Program, Centers for Disease Control and Prevention, 1600 Clifton Road mailstop E-61, Atlanta, GA 30333, Telehone: 404-639-8779, e-mail address: bgw2@cdc.gov.

For program administrative assistance, contact: Sharon Holmes, Program Analyst, Vaccine Safety and Development Activity, National Immunization Program, Centers for Disease Control and Prevention, 1600 Clifton Road mailstop E-61, Atlanta, GA 30333, Telephone: 404-639-8582, e-mail address: sholmes@cdc.gov.

Dated: October 4, 2002.
Sandra R. Manning,
Director, Procurement and Grants Office, Centers for Disease Control and Prevention.

[FR Doc. 02-25953 Filed 10-10-02; 8:45 am]

BILLING CODE 4163-18-P